POSTAL REGULATORY COMMISSION

[Docket No. MC2009-39; Order No. 282]

International Mail

AGENCY: Postal Regulatory Commission.

ACTION: Notice.

SUMMARY: The Commission is noticing a recently-filed Postal Service request concerning a minor revision to Global Express Guaranteed (GXG) service. This notice addresses procedural steps associated with this filing.

DATES: Comments are due August 28, 2009.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: On August 18, 2009, the Postal Service filed a formal notice with the Commission concerning a change in classification for Global Express Guaranteed (GXG) service pursuant to 39 CFR 3020.90 et seq.¹ The change revises the requirements for eligibility for online discounts for GXG service to reflect current practice which allows customers to purchase online discounted postage for GXG service and other international expedited and parcel services through Click-N-Ship at http://www.usps.com or by using other commercial online postage providers. Id. at 1.

¹ See Notice of United States Postal Service of Classification Change, August 18, 2009 (Notice). This Notice is available on the Commission's Web site, http://www.prc.gov.

Formerly, customers were eligible to receive online discounts for GXG service by registration via the GXG Web site at http://www.usps.com.

The Postal Service asserts this classification change is consistent with the requirements of 39 U.S.C. 3642, and further proposes conforming Mail Classification Schedule language. Id.

Pursuant to 39 CFR 3020.92, the Commission provides notice of the Postal Service's filing and affords interested persons an opportunity to express views and offer comments on whether the proposed classification change is inconsistent with 39 U.S.C. 3642. Comments are due August 28, 2009.

39 CFR 3020.91 requires the Postal Service to file notice of the proposed change with the Commission no less than 15 days prior to the effective date of the proposed change. The Notice indicates the effective date of the change is September 8, 2009. Id.

The Commission appoints Kenneth E. Richardson to serve as Public Representative in this docket.

It is ordered:

1. The Commission establishes Docket No. MC2009-39 for consideration of the matters raised in this docket.

2. Pursuant to 39 U.S.C. 505, Kenneth E. Richardson is appointed to serve as officer of the Commission (Public Representative) to represent the interests of the general public in these proceedings.

3. Comments by interested persons in this proceeding are due no later than August 28, 2009.

By the Commission.
Judith M. Grady,
Acting Secretary.

[FR Doc. E9-20401 Filed 8-24-09; 8:45 am]

BILLING CODE 7710-FW-P